DEPARTMENT OF THE INTERIOR

Fish and Wildlife Service

50 CFR Part 17

RIN 1018-AH95

Endangered and Threatened Wildlife and Plants; Designation of Critical Habitat for the Newcomb's Snail, Extension of Comment Period, Notice of Public Hearing, and Notice of Availability of the Draft Economic Analysis

AGENCY: Fish and Wildlife Service, Interior.

ACTION: Proposed rule; extension of comment period, notice of public hearing, and notice of availability of draft economic analysis.

SUMMARY: We, the U.S. Fish and Wildlife Service (Service), provide notice that a public hearing will be held on the proposed determination of critical habitat for the Newcomb's snail (Errina newcombi) and that the comment period on this proposal is extended; we also announce the availability of the draft economic analysis of this proposed designation of critical habitat. Newcomb's snail is found on the island of Kauai, Hawaii. We are extending the comment period for the proposal to designate critical habitat for this species to hold the public hearing and to allow all interested parties to comment simultaneously on the proposed rule and the associated draft economic analysis. Comments previously submitted need not be resubmitted as they will be incorporated into the public record as part of this extended comment period and will be fully considered in the final rule.

DATES: The public hearing will be held from 6 p.m. to 8 p.m. on April 17, 2002, in Lihue, HI. Prior to the public hearing, the Service will be available from 3:30 p.m. to 4:30 p.m. to provide information and to answer questions. Registration for the hearing will begin at 5:30 p.m. The comment period, which originally closed on March 29, 2002, will now close on April 29, 2002.

ADDRESSES: The public hearing will be held at the Radisson Kauai Beach Resort, 4331 Kauai Beach Drive, Lihue, Kauai, HI. The draft economic analysis is available from, and written comments and information should be submitted to, Field Supervisor, Pacific Islands Fish and Wildlife Office, U.S. Fish and Wildlife Service, 300 Ala Moana Boulevard, Room 3-122, Box 50088, Honolulu, HI 96850. Comments and materials received will be available for public inspection during normal business hours, by appointment, at the above address.

FOR FURTHER INFORMATION CONTACT: Paul Henson, Field Supervisor, Pacific Islands Fish and Wildlife Office, at the above address (telephone: 808/541-3441; facsimile: 808/541-3470).

SUPPLEMENTARY INFORMATION:

Background

Newcomb's snail is a type of freshwater snail belonging to the lymnaeid family of snails. Adult Newcomb's snails are approximately 6 millimeters (mm) (0.25 inches (in)) long and 3 mm (0.12 in) wide in size. Its shell is smooth and black, formed by a single, oval whorl, about 6 mm (0.25 in) long. The tentacles of Newcomb's snail, like other lymnaeids, are flat and triangular, rather than conical or filament-shaped as found on other freshwater snails. Newcomb's snails feed upon algae and other material growing on submerged rocks. Eggs are attached to underwater rocks or vegetation and the entire life cycle is tied to the stream system in which the adults live.

Populations of Newcomb's snail are currently found in small areas within the Kalalau, Lumahai, Hanalei, Waipahee, Makaleha, and North Wailua stream systems on the Hawaiian island of Kauai. Historically, Newcomb's snail was found in Hanakoa, Hanakapiai, and Wainiha streams, but these populations are thought to be extirpated. The known populations of Newcomb's snail have a total of approximately 6,000 to 7,000 individuals.

Some of the suspected historical decline of the snail may be attributed to habitat loss and degradation through water diversion and well drilling. Currently, predation by alien species, natural disasters and habitat alteration are threats that imperil Newcomb's snail. The rosy glandina snail (Euglandina rosea) is an introduced snail that preys mostly on other snails. Two species of non-native marsh flies prey upon eggs and adults of Hawaiian freshwater snails. These flies were introduced in 1955 and 1966 as bio-control agents for a non-native snail that hosts a cattle parasite. Other introduced predators include introduced fish and frogs. Presently, Newcomb's snail faces an increased likelihood of extinction from naturally occurring events such as hurricanes due to the small number of remaining populations and their limited distribution.

Pursuant to the Endangered Species Act of 1973, as amended (Act) (16 U.S.C. 1531 et seq.), Errina newcombi was listed as a threatened species on January 26, 2000 (65 FR 4162). On January 28, 2002, we published a proposed rule in the Federal Register (67 FR 3849) to designate critical habitat for Newcomb's snail. Section 4(b)(5)(E) of the Act requires that a public hearing be held if requested within 45 days of the proposal's publication in the Federal Register. We received 2 requests for a public hearing during this time period. In response to these requests, we will hold a public hearing on the date and location described in the DATES and ADDRESSES section above.

Anyone wishing to make an oral statement for the record is encouraged to provide a written copy of their statement to the Service at the start of the hearing. In the event there is a large attendance, the time allotted for oral statements may have to be limited. Oral and written statements receive equal consideration. There are no limits to the length of written comments presented at this hearing or mailed to the Service. Legal notices announcing the date, time, and location of the hearing are being published in newspapers concurrently with this Federal Register notice.

We propose to designate critical habitat in nine critical habitat units that total 26.29 kilometers (km) (16.33 miles (mi)) of main stream channel; in total, these areas encompass approximately 2,109 hectares (ha) (5,212 acres (ac)). Six of these sites are located on state lands, and three of these sites are on lands that are privately owned. Critical habitat units are proposed for reaches of stream main channel that range in length from 0.8 km (0.5 mi) to 7.58 km ( 4.71 mi); the units range in size from 35 ha (86 ac) to 876 ha (2165 ac).

Critical habitat receives protection from destruction or adverse modification through required consultation under section 7 of the Act with regard to actions carried out, funded, or authorized by a Federal agency. Section 4(b)(2) of the Act requires that we designate or revise critical habitat based upon the best scientific and commercial data available, after taking into consideration the economic impact of specifying any particular area as critical habitat. Based upon the previously published proposal to designate critical habitat for Newcomb's snail, we have prepared a draft economic analysis of the proposed critical habitat designation. The draft economic analysis is available from the Pacific Islands Fish and Wildlife Office (see ADDRESSES section).

The original comment period was due to close on March 29, 2002. In order to accommodate the hearing and to provide the public with the opportunity to comment on the draft economic analysis of this proposed critical habitat designation as well as the proposed rule, we also extend the comment period. Written comments may now be submitted until April 29, 2002, to the Service office in the ADDRESSES section.

Public Comments Solicited

We will accept written comments and information during this extended comment period. If you wish to comment, you may submit written comments and information to the Field Supervisor, Pacific Islands Fish and Wildlife (see ADDRESSES section). Alternatively, you may hand-deliver comments to our Pacific Islands Fish and Wildlife Office at the above address.

Comments and materials received, as well as supporting documentation used in preparation of the proposal to designate critical habitat, will be available for inspection, by appointment, during normal business hours at the address above. Copies of the draft economic analysis are available by writing to the Field Supervisor at the address above.

Author

The primary author of this notice is Gordon Smith, Fish and Wildlife Biologist, Pacific Islands Fish and Wildlife Office (see ADDRESSES section).

Authority: The authority for this action is the Endangered Species Act of 1973 (16 U.S.C. 1531 et seq.).

Dated: March 26, 2002.
Craig Manson,
Assistant Secretary for Fish and Wildlife and Parks.

[FR Doc. 02-7724 Filed 3-28-02; 8:45 am]

BILLING CODE 4318-55-P